DEPARTMENT OF ENERGY

Federal Energy Regulatory Commission

[Docket No. OR01-4-000]

Chevron Products Company v. Frontier Pipeline Company and Express Pipeline Partnership; Notice of Complaint

February 22, 2001.

Take notice that on February 15, 2001, Chevron Products Company (Chevron), tendered for filing a complaint against Frontier Pipeline Company (Frontier) and Express Pipeline Partnership (Express).

Chevron states that it is a shipper of crude oil on tariffs filed by Frontier as well as on joint tariffs published by Frontier and Express for the shipment of crude petroleum between International Boundary, Canada and Salt Lake City, Utah. Chevron states that it is also a shipper of sour condensate on a tariff filed by Frontier. Chevron alleges in its Complaint that the rates being charged on the Frontier tariff and on the Frontier portion of the Frontier/Express joint tariffs are unjust and unreasonable and unduly discriminatory and unduly preferential, and therefore in violation of the Interstate Commerce Act. Chevron further alleges that the Express/Frontier joint tariff rates exceed applicable ceiling price regulations.

Any person desiring to be heard or to protest said complaint should file a motion to intervene or a protest with the Federal Energy Regulatory Commission, 888 First Street, NE., Washington, DC 20426, in accordance with Sections 385.214 or 385.211 of the Commission's Rules and Regulations. All such motions or protests must be filed on or before March 14, 2001. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(I)(iii) and the instructions on the Commission's web site at http://www.ferc.fed.us/efi/doorbell.htm. Answers to this complaint shall be due on or before March 14, 2001.

David P. Boergers,
Secretary.

[FR Doc. 01-4816 Filed 2-27-01; 8:45 am]

BILLING CODE 6717-01-M